UNITED STATES INSTITUTE OF PEACE

Notice of Meeting

DATE/TIME: Thursday, June 23, 2011 (11 a.m.-5:30 p.m.).

Friday, June 24, 2011 (9 a.m.-3:30 p.m.).

LOCATION: 2301 Constitution Avenue, NW., Washington, DC 20037.

STATUS: Open Session—Portions may be closed pursuant to Subsection (c) of Section 552(b) of Title 5, United States Code, as provided in subsection 1706(h)(3) of the United States Institute of Peace Act, Public Law 98-525.

AGENDA: June 2011 Board Meeting; Approval of Minutes of the One Hundred Thirty-Ninth Meeting (January 20, 2011) of the Board of Directors; Chairman's Report; President's Report; Executive Vice President Update; Q & A with Senior Vice Presidents; Updates on Budget; Board Executive Session; Other General Issues.

CONTACT: Tessie F. Higgs, Executive Office, Telephone: (202) 429-3836.

Dated: May 26, 2011.
Michael Graham,
Senior Vice President for Management and CFO, United States Institute of Peace.

[FR Doc. 2011-13860 Filed 6-8-11; 8:45 am]

BILLING CODE 6820-AR-M